DEPARTMENT OF TRANSPORTATION

Federal Aviation Administration

14 CFR Part 39

[Docket No. FAA-2015-3942; Directorate Identifier 2014-SW-064-AD]

RIN 2120-AA64

Airworthiness Directives; Sikorsky Aircraft Corporation (Sikorsky) Helicopters

AGENCY: Federal Aviation Administration (FAA), DOT.

ACTION: Notice of proposed rulemaking (NPRM).

SUMMARY: We propose to supersede airworthiness directive (AD) 2014-07-04R1 for certain Sikorsky Model S-92A helicopters. AD 2014-07-04R1 currently requires repetitive inspections in the upper deck area for incorrectly installed clamps and chafing between the electrical wires and the hydraulic lines and replacing any unairworthy wires or hydraulic lines. Since we issued AD 2014-07-04R1, the manufacturer has developed an alteration that corrects the unsafe condition described in AD 2014-07-04R1. This proposed AD would require altering the wiring system in the upper deck area. These proposed actions are intended to prevent a fire in an area of the helicopter without extinguishing capability and subsequent loss of control of the helicopter.

DATES: We must receive comments on this proposed AD by November 24, 2015.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov by searching for and locating Docket No. FAA-2015-3942; or in person at the Docket Operations Office between 9 a.m. and 5 p.m., Monday through Friday, except Federal holidays. The AD docket contains this proposed AD, the economic evaluation, any comments received, and other information. The street address for the Docket Operations Office (telephone 800-647-5527) is in the ADDRESSES section. Comments will be available in the AD docket shortly after receipt.

For service information identified in this proposed AD, contact Sikorsky Aircraft Corporation, Customer Service Engineering, 124 Quarry Road, Trumbull, CT 06611; telephone 1-800-Winged-S or 203-416-4299; email sikorskywcs@sikorsky.com. You may review service information at the FAA, Office of the Regional Counsel, Southwest Region, 10101 Hillwood Pkwy, Room 6N-321, Fort Worth, Texas 76177.

FOR FURTHER INFORMATION CONTACT: Ian Lucas, Aviation Safety Engineer, Boston Aircraft Certification Office, Engine & Propeller Directorate, FAA, 12 New England Executive Park, Burlington, Massachusetts 01803; telephone (781) 238-7757; email ian.lucas@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

On March 28, 2014, we issued AD 2014-07-04, Amendment 39-17818 (79 FR 21385, April 16, 2014), for certain serial-numbered Sikorsky Model S92A helicopters. AD 2014-07-04 required repetitively inspecting the upper deck area for incorrectly installed clamps and chafing between the electrical wires and the hydraulic lines, replacing any unairworthy wires or hydraulic lines, and correcting any clamps that were installed incorrectly. Due to typographical errors when the AD was published, an incorrect serial number and an incorrect reference to the service information appeared in the text of the rule. On August 21, 2014, we issued AD 2014-07-04R1, Amendment 39-17964 (79 FR 54893, September 15, 2014), to correct these errors.

Actions Since AD 2014-07-04R1 Was Issued

Since we issued AD 2014-07-04R1 (79 FR 54893, September 15, 2014), Sikorsky has developed an alteration to correct the unsafe condition described in AD 2014-07-04R1. The alteration creates separate engine inlet and alternating current (AC) generator feeder lines, which were previously combined as an assembly. The new engine inlet feeder lines are rerouted through the cabin to the AC power distributors. The alteration also involves removing certain hydraulic to electrical clamps, which support the top deck main harnesses, and adding independent electrical brackets to create greater separation from the hydraulic lines. These proposed actions are intended to alter the wiring installation in the upper deck to prevent chafing between the electrical lines and hydraulic hoses. This condition, if not prevented, could result in a fire in an area of the helicopter without extinguishing capability and subsequent loss of control of the helicopter.

FAA's Determination

We are proposing this AD because we evaluated all the relevant information and determined the unsafe condition described previously is likely to exist or develop in other products of this same type design.

Related Service Information Under 1 CFR Part 51

Sikorsky has issued Special Service Instructions SSI No. 92-070A, Revision A, dated April 25, 2014 (SSI 92-070A), which contains procedures to alter the wiring system in the upper deck area to prevent chafing. This service information is reasonably available because the interested parties have access to it through their normal course of business or by means identified in the Addresses Section of this proposed AD.

Other Related Service Information

We also reviewed Alert Service Bulletin ASB 92-20-003, Basic Issue, dated May 5, 2014 (ASB 92-20-003). ASB 92-20-003 specifies a one-time modification of the upper deck wiring harnesses to prevent possible chafing by complying with SSI 92-070A.

Proposed AD Requirements

This proposed AD would require altering the wiring system in the upper deck area.

Differences Between This Proposed AD and the Service Information

The service information provides a compliance date of November 5, 2015; the proposed AD would require a compliance time of 150 hours TIS. Also, the service information requires submitting certain documentation to the manufacturer, and the proposed AD would not.

Costs of Compliance

We estimate that this proposed AD would affect 20 helicopters of U.S. Registry.

We estimate that operators may incur the following costs in order to comply with this AD. Labor costs are estimated at $85 per work hour. Rerouting the upper deck wiring system and replacing and installing new parts would take 58 work hours and $8,000 in required parts, for a total cost of $12,930 per helicopter and $258,600 for the fleet.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2014-07-04R1, Amendment 39-17964 (79 FR 54893, September 15, 2014), and adding the following new AD:

Sikorsky Aircraft Corporation: Docket No. FAA-2015-3942; Directorate Identifier 2014-SW-064-AD.

(a) Applicability

This AD applies to Model S-92A helicopters, serial number 920006 through 920084, certificated in any category.

(b) Unsafe Condition

This AD defines the unsafe condition as an incorrectly installed clamp that does not provide adequate clearance to prevent chafing between the high voltage electrical lines and the hydraulic hoses. This condition could result in a fire in an area of the helicopter without extinguishing capability and subsequent loss of control of the helicopter.

(c) Affected ADs

This AD supersedes AD 2014-07-04R1, Amendment 39-17964 (79 FR 54893, September 15, 2014).

(d) Comments Due Date

We must receive comments by November 24, 2015.

(e) Compliance

You are responsible for performing each action required by this AD within the specified compliance time unless it has already been accomplished prior to that time.

(f) Required Actions

Within 150 hours time-in-service, reroute the left hand and right hand upper deck wiring system by complying with the Instructions, paragraph B, of Sikorsky Aircraft Corporation Special Service Instructions SSI No. 92-070A, Revision A, dated April 25, 2014.

(g) Alternative Methods of Compliance (AMOCs)

(1) The Manager, Boston Aircraft Certification Office, FAA, may approve AMOCs for this AD. Send your proposal to: Ian Lucas, Aviation Safety Engineer, Engine & Propeller Directorate, FAA, 12 New England Executive Park, Burlington, Massachusetts 01803; telephone (781) 238-7757; email ian.lucas@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(h) Additional Information

Sikorsky Aircraft Corporation Alert Service Bulletin ASB 92-20-003, Basic Issue, dated May 5, 2014, which is not incorporated by reference, contains additional information about the subject of this AD. For service information identified in this AD, contact Sikorsky Aircraft Corporation, Customer Service Engineering, 124 Quarry Road, Trumbull, CT 06611; telephone 1-800-Winged-S or 203-416-4299; email sikorskywcs@sikorsky.com.

You may review the service information at the FAA, Office of the Regional Counsel, Southwest Region, 10101 Hillwood Pkwy, Room 6N-321, Fort Worth, Texas 76177.

(i) Subject

Joint Aircraft Service Component (JASC) Code: 2910 Main Hydraulic System.

Issued in Fort Worth, Texas, on September 17, 2015.
James A. Grigg,
Acting Manager, Rotorcraft Directorate, Aircraft Certification Service.

[FR Doc. 2015-24148 Filed 9-24-15; 8:45 am]

BILLING CODE 4910-13-P